DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Colorado: Boulder (FEMA Docket No.: B-2450) | City of Boulder (24-08-0273X) | The Honorable Aaron Brockett, Mayor, City of Boulder, 1777 Broadway, Boulder, CO 80302 | City Hall, 1777 Broadway, Boulder, CO 80302 | Oct. 3, 2024 | 080024
DC: Washington, DC (FEMA Docket No.: B-2450) | District of Columbia (23-03-0825P) | The Honorable Muriel Bowser, Mayor, District of Columbia, 1350 Pennsylvania Avenue, Northwest Washington, DC 20004 | Department of Energy and Environment, 1200 1st Street Northeast, 5th Floor, Washington DC 20002 | Sep. 25, 2024 | 110001
Florida:
Broward (FEMA Docket No.: B-2450) | City of Plantation (24-04-0898P) | The Honorable Nick Sortal, Mayor, City of Plantation, 400 Northwest 73rd Avenue, Plantation, FL 33317 | City Hall, 400 Northwest 73rd Avenue, Plantation, FL 33317 | Oct. 15, 2024 | 120054
Indian River (FEMA Docket No.: B-2445) | Unincorporated areas of Indian River County (24-04-0897P) | Susan Adams, Chair, Indian River County Board of Commissioners, 1801 27th Street, Vero Beach, FL 32960 | Indian River County Administration Building, 1801 27th Street, Vero Beach, FL 32960 | Sep. 25, 2024 | 120119
Lake (FEMA Docket No.: B-2445) | City of Groveland (23-04-5489P) | The Honorable Evelyn Wilson, Mayor, City of Groveland, 243 South Lake Avenue, Groveland, FL 34736 | City Hall, 243 South Lake Avenue, Groveland, FL 34736 | Oct. 9, 2024 | 120135
Lake (FEMA Docket No.: B-2445) | Unincorporated areas of Lake County (23-04-5489P) | Jennifer Barker, Lake County Manager, 315 West Main Street, Tavares, FL 32778 | Lake County Public Works Department, 323 North Sinclair Avenue, Tavares, FL 32778 | Oct. 9, 2024 | 120135
Manatee (FEMA Docket No.: B-2445) | Unincorporated areas of Manatee County (24-04-1367P) | Charlie Bishop, Manatee County Administrator, 1112 Manatee Avenue West, Bradenton, FL 34205 | Manatee County Administration Building, 1112 Manatee Avenue West, Bradenton, FL 34205 | Sep. 30, 2024 | 120153
Manatee (FEMA Docket No.: B-2450) | Unincorporated areas of Manatee County (24-04-4432P) | Charlie Bishop, Manatee County Administrator, 1112 Manatee Avenue West, Bradenton, FL 34205 | Manatee County Administration Building, 1112 Manatee Avenue West, Bradenton, FL 34205 | Oct. 16, 2024 | 120153
Manatee (FEMA Docket No.: B-2450) | Unincorporated areas of Manatee County (24-04-4434P) | Charlie Bishop, Manatee County Administrator, 1112 Manatee Avenue West, Bradenton, FL 34205 | Manatee County Administration Building, 1112 Manatee Avenue West, Bradenton, FL 34205 | Oct. 10, 2024 | 120153
Monroe (FEMA Docket No.: B-2450) | Village of Islamorada (24-04-1608P) | The Honorable Joseph “Buddy” Pinder III, Mayor, Village of Islamorada, 86800 Overseas Highway, Islamorada, FL 33036 | Building Department, 86800 Overseas Highway, Islamorada, FL 33036 | Oct. 4, 2024 | 120424
Osceola (FEMA Docket No.: B-2450) | Unincorporated areas of Osceola County (24-04-2482X) | Donald Fisher, Osceola County Manager, 1 Courthouse Square, Suite 4700, Kissimmee, FL 34741 | Osceola County Public Works Department, 1 Courthouse Square, Suite 3100, Kissimmee, FL 34741 | Oct. 11, 2024 | 120189
Pasco (FEMA Docket No.: B-2450) | Unincorporated areas of Pasco County (23-04-5310P) | Ron Oakley, Chair, Pasco County Board of Commissioners, 37918 Meridian Avenue, Dade City, FL 33525 | Pasco County Building Construction Services Department, 8661 Citizens Drive, Suite 100, New Port Richey, FL 34654 | Oct. 3, 2024 | 120230
Indiana:
Lake (FEMA Docket No.: B-2450) | Town of Lowell (23-05-1264P) | Todd Angerman, President, Town of Lowell Council, 501 East Main Street, Lowell, IN 46356 | Town Hall, 501 East Main Street, Lowell, IN 46356 | Oct. 15, 2024 | 180137
Lake (FEMA Docket No.: B-2450) | Unincorporated areas of Lake County (23-05-1264P) | Christine Cid, President, Lake County Council, 2293 North Main Street, Crown Point, IN 46307 | Lake County Building, 2293 North Main Street, Crown Point, IN 46307 | Oct. 15, 2024 | 180126
North Carolina:
Craven (FEMA Docket No.: B-2460) | City of Havelock (23-04-5092P) | The Honorable William L. Lewis, Jr., Mayor, City of Havelock, P.O. Box 368, Havelock, NC 28532 | Planning Department, 1 Governmental Avenue, Havelock, NC 28532 | Oct. 7, 2024 | 370265
Durham (FEMA Docket No.: B-2450) | City of Durham (23-04-4657P) | The Honorable Leonardo Williams, Mayor, City of Durham, 101 City Hall Plaza, Durham, NC 27701 | City Hall, 101 City Hall Plaza, Durham, NC 27701 | Oct. 10, 2024 | 370086
Mecklenburg (FEMA Docket No.: B-2450) | City of Charlotte (22-04-5778P) | The Honorable Vi Alexander Lyles, Mayor, City of Charlotte, 600 East 4th Street, Charlotte, NC 28202 | Stormwater Services Department, 2145 Suttle Avenue, Charlotte, NC 28208 | Oct. 2, 2024 | 370159
South Carolina: Richland (FEMA Docket No.: B-2450) | City of Forest Acres (24-04-0460P) | The Honorable Thomas Andrews, Mayor, City of Forest Acres, 5209 North Trenholm Road, Columbia, SC 29206 | City Hall, 5209 North Trenholm Road, Columbia, SC 29206 | Oct. 7, 2024 | 450174
Texas:
Bell (FEMA Docket No.: B-2450) | City of Temple (23-06-1405P) | The Honorable Tim Davis, Mayor, City of Temple, 2 North Main Street, Suite 103, Temple, TX 76501 | Engineering Department, 3210 East Avenue H, Building A, Suite 107, Temple, TX 76501 | Oct. 3, 2024 | 480034
Collin (FEMA Docket No.: B-2445) | City of Frisco (24-06-0214P) | The Honorable Jeff Cheney, Mayor, City of Frisco, 6101 Frisco Square Boulevard, Frisco, TX 75034 | Engineering Development Department, 6101 Frisco Square Boulevard, Frisco, TX 75034 | Sep. 30, 2024 | 480134
Collin (FEMA Docket No.: B-2445) | City of McKinney (24-06-0193P) | The Honorable George Fuller, Mayor, City of McKinney, 222 North Tennessee Street, McKinney, TX 75069 | City Hall, 222 North Tennessee Street, McKinney, TX 75069 | Sep. 30, 2024 | 480135
Collin (FEMA Docket No.: B-2445) | City of McKinney (24-06-0214P) | The Honorable George Fuller, Mayor, City of McKinney, 222 North Tennessee Street, McKinney, TX 75069 | City Hall, 222 North Tennessee Street, McKinney, TX 75069 | Sep. 30, 2024 | 480135
Collin (FEMA Docket No.: B-2445) | City of Melissa (24-06-0193P) | The Honorable Jay Northcut, Mayor, City of Melissa, 3411 Barker Avenue, Melissa, TX 75454 | City Hall, 3411 Barker Avenue, Melissa, TX 75454 | Sep. 30, 2024 | 481626
Collin (FEMA Docket No.: B-2445) | Unincorporated areas of Collin County (24-06-0193P) | The Honorable Chris Hill, Collin County Judge, 2300 Bloomdale Road, Suite 4192, McKinney, TX 75071 | Collin County Juvenile Justice Alternative Education Program Building, 4690 Community Avenue, McKinney, TX 75071 | Sep. 30, 2024 | 480130
Dallas (FEMA Docket No.: B-2445) | City of Wilmer (24-06-0159P) | The Honorable Sheila Petta, Mayor, City of Wilmer, 128 North Dallas Avenue, Wilmer, TX 75172 | City Hall, 128 North Dallas Avenue, Wilmer, TX 75172 | Sep. 30, 2024 | 480190
Dallas (FEMA Docket No.: B-2445) | Unincorporated areas of Dallas County (24-06-0159P) | The Honorable Clay Lewis Jenkins, Dallas County Judge, 500 Elm Street, Suite 7000, Dallas, TX 75202 | Dallas County Records Building, 500 Elm Street, Suite 5300, Dallas, TX 75202 | Sep. 30, 2024 | 480165
Denton (FEMA Docket No.: B-2450) | City of Frisco (23-06-1600P) | The Honorable Jeff Cheney, Mayor, City of Frisco, 6101 Frisco Square Boulevard, Frisco, TX 75034 | City Hall, 6101 Frisco Square Boulevard, Frisco, TX 75034 | Oct. 7, 2024 | 480134
Denton (FEMA Docket No.: B-2450) | Town of Prosper (23-06-2479P) | The Honorable David F. Bristol, Mayor, Town of Prosper, 250 West 1st Street, Prosper, TX 75078 | Engineering Department, 250 West 1st Street, Prosper, TX 75078 | Oct. 11, 2024 | 480141
Denton (FEMA Docket No.: B-2450) | Unincorporated areas of Denton County (23-06-2479P) | The Honorable Andy Eads, Denton County Judge, 1 Courthouse Drive, Suite 3100, Denton, TX 76208 | Denton County Development Services Department, 3900 Morse Street, Denton, TX 76208 | Oct. 11, 2024 | 480774
Ellis (FEMA Docket No.: B-2450) | Unincorporated areas of Ellis County (23-06-1731P) | The Honorable Todd Little Ellis, County Judge, 101 West Main Street, Waxahachie, TX 75165 | Ellis County Courts and Administration, 109 South Jackson Street, Waxahachie, TX 75165 | Oct. 15, 2024 | 480798
Johnson (FEMA Docket No.: B-2445) | Unincorporated areas of Johnson County (23-06-1788P) | The Honorable Christopher Boedeker, Johnson County Judge, 2 North Main Street, Cleburne, TX 76033 | Johnson County Public Works Department, 2 North Mill Street, Suite 305, Cleburne, TX 76033 | Sep. 30, 2024 | 480879
Kaufman (FEMA Docket No.: B-2450) | City of Terrell (24-06-0327P) | The Honorable E. Rick Carmona, Mayor, City of Terrell, P.O. Box 310, Terrell, TX 75160 | City Hall, 201 East Nash Street, Terrell, TX 75160 | Oct. 15, 2024 | 480416
Kendall (FEMA Docket No.: B-2454) | Unincorporated areas of Kendall County (23-06-2463P) | The Honorable Shane Stolarczyk, Kendall County Judge, 201 East San Antonio Avenue, Suite 122, Boerne, TX 78006 | Kendall County Courthouse, 201 East San Antonio Avenue, Suite 101, Boerne, TX 78006 | Oct. 15, 2024 | 480417
Tarrant (FEMA Docket No.: B-2445) | City of Fort Worth (23-06-2685P) | The Honorable Mattie Parker, Mayor, City of Fort Worth, 200 Texas Street, Fort Worth, TX 76102 | City Hall, 200 Texas Street, Fort Worth, TX 76102 | Sep. 30, 2024 | 480596
Vermont: Windham (FEMA Docket No.: B-2445) | Town of Brattleboro (23-01-0632P) | John R. Potter, Manager, Town of Brattleboro, 230 Main Street, Suite 208, Brattleboro, VT 05301 | Planning Services Department, 230 Main Street, Suite 202, Brattleboro, VT 05301 | Oct. 3, 2024 | 500126
Wyoming: Laramie (FEMA Docket No.: B-2454) | City of Cheyenne (23-08-0495P) | The Honorable Patrick Collins, Mayor, City of Cheyenne, 2101 O'Neil Avenue, Cheyenne, WY 82001 | Engineering Department, 2101 O'Neil Avenue, Suite 206, Cheyenne, WY 82001 | Oct. 15, 2024 | 560030

[FR Doc. 2024-24775 Filed 10-23-24; 8:45 am]

BILLING CODE 9110-12-P